DEPARTMENT OF JUSTICE

Bureau of Alcohol, Tobacco, Firearms and Explosives

[OMB Number 1140-0003]

Agency Information Collection Activities; Proposed eCollection of eComments Requested; Revision of a Currently Approved Collection; Report of Multiple Sale or Other Disposition of Pistols and Revolvers—ATF Form 3310.4

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995.

DATES: Comments are encouraged and will be accepted for an additional 30 days until October 20, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

Evaluate whether the proposed collection of information is necessary for the proper performance of the functions of the agency, including whether the information will have practical utility;

Evaluate the accuracy of the agency's estimate of the burden of the proposed collection of information, including the validity of the methodology and assumptions used;

Evaluate whether and if so how the quality, utility, and clarity of the information to be collected can be enhanced; and

Minimize the burden of the collection of information on those who are to respond, including through the use of appropriate automated, electronic, mechanical, or other technological collection techniques or other forms of information technology, e.g., permitting electronic submission of responses.

Overview of This Information Collection

Type of Information Collection: Revision of a currently approved collection.

The Title of the Form/Collection: Report of Multiple Sale or Other Disposition of Pistols and Revolvers.

The agency form number, if any, and the applicable component of the Department sponsoring the collection: Form number: ATF Form 3310.4.

Component: Bureau of Alcohol, Tobacco, Firearms and Explosives, U.S. Department of Justice.

Affected public who will be asked or required to respond, as well as a brief abstract:

Primary: Business or other for-profit.

Other: Federal Government and State, Local, or Tribal Government.

Abstract: The Report of Multiple Sale or Other Disposition of Pistols and Revolvers—ATF Form 3310.4 is used to report multiple sale or other disposition of two or more pistols, revolvers, or any combination of pistols or revolvers to an unlicensed person, whether it occurs one time or within five consecutive business days.

An estimate of the total number of respondents and the amount of time estimated for an average respondent to respond: An estimated 82,011 respondents will complete this form approximately 6.33365 times annually, and it will take each respondent approximately 15 minutes to complete their responses.

An estimate of the total public burden (in hours) associated with the collection: The estimated annual public burden associated with this collection is 129,857 hours, which is equal to 82,011 (# of respondents) * 6.33365 (# of responses per respondent) * .25 (15 mins).

An Explanation of the Change in Estimates: The increase in total respondents, responses, and burden hours, by 4,106, 63,495, and 15,873 hours respectively, is due to the revision of agency estimates, and a general increase in the number of respondents since the last renewal in 2018.

If additional information is required contact: Melody Braswell, Department Clearance Officer, United States Department of Justice, Justice Management Division, Policy and Planning Staff, Two Constitution Square, 145 N Street NE, Mail Stop 3E.405A, Washington, DC 20530.

Dated: September 14, 2021.
Melody Braswell,
Department Clearance Officer for PRA, U.S. Department of Justice.

[FR Doc. 2021-20187 Filed 9-17-21; 8:45 am]

BILLING CODE 4410-FY-P